SECURITIES AND EXCHANGE COMMISSION

[File No. 500-1]

Jinhao Motor Company; Order of Suspension of Trading

January 24, 2014.

It appears to the Securities and Exchange Commission that there is a lack of current and accurate information concerning the securities of Jinhao Motor Company because it has not filed any periodic reports since the period ended September 30, 2010.

The Commission is of the opinion that the public interest and the protection of investors require a suspension of trading in the securities of the above-listed company. Therefore, it is ordered, pursuant to Section 12(k) of the Securities Exchange Act of 1934, that trading in the securities of the above-listed company is suspended for the period from 9:30 a.m. EST on January 24, 2014, through 11:59 p.m. EST on February 6, 2014.

By the Commission.
Elizabeth M. Murphy,
Secretary.

[FR Doc. 2014-01680 Filed 1-24-14; 11:15 am]

BILLING CODE 8011-01-P